DEPARTMENT OF LABOR

Employment and Training Administration

[TA-W-53,759]

Tellabs Operations, Bollingbrook, Illinois; Notice of Termination of Investigation

Pursuant to section 221 of the Trade Act of 1974, as amended, an investigation was initiated on December 10, 2003 in response to a petition filed on behalf of workers at Tellabs Operations, Bolingbrook, Illinois.

The petitioning group of workers is covered by an active certification issued on September 25, 2003 and which remains in effect (TA-W-52,649). Consequently, further investigation in this case would serve no purpose, and the investigation has been terminated.

Signed at Washington, DC this 5th day of January, 2004.
Linda G. Poole,
Certifying Officer, Division of Trade Adjustment Assistance.

[FR Doc. 04-994 Filed 1-15-04; 8:45 am]

BILLING CODE 4510-30-P